DEPARTMENT OF HOMELAND SECURITY

Coast Guard

[Docket No. USCG-2015-0910]

Information Collection Request to Office of Management and Budget; OMB Control Number: 1625-0001

AGENCY: Coast Guard, DHS.

ACTION: Sixty-day notice requesting comments.

SUMMARY: In compliance with the Paperwork Reduction Act of 1995, the U.S. Coast Guard intends to submit an Information Collection Request (ICR) to the Office of Management and Budget (OMB), Office of Information and Regulatory Affairs (OIRA), requesting approval of revisions to the following collection of information: 1625-0001, Marine Casualty Information & Periodic Chemical Drug and Alcohol Testing of Commercial Vessel Personnel. Our ICR describe the information we seek to collect from the public. Before submitting this ICR to OIRA, the Coast Guard is inviting comments as described below.

DATES: Comments must reach the Coast Guard on or before December 22, 2015.

ADDRESSES: You may submit comments identified by Coast Guard docket number [USCG-2015-0910] to the Coast Guard using the Federal eRulemaking Portal at http://www.regulations.gov. See the “Public participation and request for comments” portion of the SUPPLEMENTARY INFORMATION section for further instructions on submitting comments.

A copy of the ICR is available through the docket on the Internet at http://www.regulations.gov. Additionally, copies are available from: COMMANDANT (CG-612), ATTN: PAPERWORK REDUCTION ACT MANAGER, U.S. COAST GUARD, 2703 MARTIN LUTHER KING JR AVE SE., STOP 7710, WASHINGTON, DC 20593-7710.

FOR FURTHER INFORMATION CONTACT: Mr. Anthony Smith, Office of Information Management, telephone 202-475-3532, or fax 202-372-8405, for questions on these documents.

SUPPLEMENTARY INFORMATION:

Public Participation and Request for Comments

This Notice relies on the authority of the Paperwork Reduction Act of 1995; 44 U.S.C. Chapter 35, as amended. An ICR is an application to OIRA seeking the approval, extension, or renewal of a Coast Guard collection of information (Collection). The ICR contains information describing the Collection's purpose, the Collection's likely burden on the affected public, an explanation of the necessity of the Collection, and other important information describing the Collection. There is one ICR for each Collection.

The Coast Guard invites comments on whether this ICR should be granted based on the Collection being necessary for the proper performance of Departmental functions. In particular, the Coast Guard would appreciate comments addressing: (1) The practical utility of the Collection; (2) the accuracy of the estimated burden of the Collection; (3) ways to enhance the quality, utility, and clarity of information subject to the Collection; and (4) ways to minimize the burden of the Collection on respondents, including the use of automated collection techniques or other forms of information technology. In response to your comments, we may revise this ICR or decide not to seek approval of revisions of the Collection. We will consider all comments and material received during the comment period.

We encourage you to respond to this request by submitting comments and related materials. Comments must contain the OMB Control Number of the ICR and the docket number of this request, [USCG-2015-0910], and must be received by December 22, 2015.

Submitting Comments

We encourage you to submit comments through the Federal eRulemaking Portal at http://www.regulations.gov. If your material cannot be submitted using http://www.regulations.gov, contact the person in the FOR FURTHER INFORMATION CONTACT section of this document for alternate instructions. Documents mentioned in this notice, and all public comments, are in our online docket at http://www.regulations.gov and can be viewed by following that Web site's instructions. Additionally, if you go to the online docket and sign up for email alerts, you will be notified when comments are posted.

We accept anonymous comments. All comments received will be posted without change to http://www.regulations.gov and will include any personal information you have provided. For more about privacy and the docket, you may review a Privacy Act notice regarding the Federal Docket Management System in the March 24, 2005, issue of the Federal Register (70 FR 15086).

Information Collection Request

1. Title: Marine Casualty Information & Periodic Chemical Drug and Alcohol Testing of Commercial Vessel Personnel.

OMB Control Number: 1625-0001.

Summary: Marine casualty information is needed for Coast Guard investigations of commercial vessel casualties involving death, vessel damage, etc., as mandated by Congress. Chemical testing information is needed to improve CG detection/reduction of drug use by mariners.

Need: Section 6101 of 46 U.S.C., as delegated by the Secretary of Homeland Security to the Commandant, authorizes the Coast Guard to prescribe regulations for the reporting of marine casualties involving death, serious injury, material loss of property, material damage affecting the seaworthiness of a vessel, or significant harm to the environment. It also requires information on the use of alcohol being included in a marine casualty report. Section 7503 of 46 U.S.C. authorizes the Coast Guard to deny the issuance of licenses, certificates of registry, and merchant mariner's documents (seaman's papers) to users of dangerous drugs. Similarly, 46 U.S.C. 7704 requires the Coast Guard to revoke such papers unless a holder provides satisfactory proofs that the holder is cured.

Forms: CG-2692, Report of Marine Casualty, Commercial Diving Casualty, or OCS-related Casualty; CG-2692A, Barge Addendum; CG-2692B, Report of Mandatory Chemical Testing Following a Serious Marine Incident Involving Vessels in Commercial Service; CG-2692C, Personnel Casualty Addendum; CG-2692D, Involved Persons and Witnesses Addendum.

Why Is The Coast Guard Proposing To Add 2 New Forms: The Coast Guard recently reviewed its regulations and policies with respect to the marine casualty reporting requirements found in 46 CFR part 4. During this project, an evaluation of comments and feedback from the maritime industry and general public, as well as an internal assessment of current statutory and regulatory requirements and Coast Guard policies, identified the need to revise the form used by the public to submit written reports of marine casualties, the form CG-2692 (currently titled Report of Marine Accident, Injury or Death) and its Addendum forms.

The resulting proposal to revise these forms, which includes revising the title name of the form and taking certain sections of the CG-2692 and moving them to two new Addendum forms (facilitates multiple entry capability not currently available) have been drafted with the following goals in mind:

• Reduce the overall amount of information required to be entered to submit reports for marine casualties while still meeting all statutory and regulatory requirements.

• Clarify what types of incidents require the submission of the written report and seek the inclusion of additional information, entered on one or more of the Addendum forms, only when it is necessary.

• Reformat and organize the information on the forms such that it is more adaptable to the development of an alternate electronic means of submission.

Respondents: Vessel owners and operators.

Frequency: On occasion.

Hour Burden Estimate: The estimated burden has increased from 20,986 hours to 23,586 hours a year due to an increase in the estimated number of responses.

Authority: The Paperwork Reduction Act of 1995; 44 U.S.C. Chapter 35, as amended.

Dated: October 18, 2015.
Thomas P. Michelli,
U.S. Coast Guard, Deputy Chief Information Officer.

[FR Doc. 2015-27019 Filed 10-22-15; 8:45 am]

BILLING CODE 9110-04-P